DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of December 21, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Lincoln County, Kansas and Incorporated Areas
Docket No.: FEMA-B-2282
City of Barnard | City Office, 313 Main Street, Barnard, KS 67418.
City of Beverly | City Office, 203 North Main Street, Beverly, KS 67423.
City of Lincoln Center | City Hall, 153 West Lincoln Avenue, Lincoln Center, KS 67455.
City of Sylvan Grove | City Hall, 118 South Main Street, Sylvan Grove, KS 67481.
Unincorporated Areas of Lincoln County | Lincoln County Courthouse, 216 East Lincoln Avenue, Lincoln Center, KS 67455.
Ottawa County, Kansas and Incorporated Areas
Docket No.: FEMA-B-2285
City of Bennington | City Office, 121 North Nelson Street, Bennington, KS 67422.
City of Culver | City Hall, 205 Kansas Avenue, Culver, KS 67484.
City of Delphos | City Office, 112 North Main Street, Delphos, KS 67436.
City of Minneapolis | City Hall, 311 North Mill Street, Minneapolis, KS 67467.
City of Tescott | City Office, 101 North Main Street, Tescott, KS 67484.
Unincorporated Areas of Ottawa County | Ottawa County Courthouse, 307 North Concord Street, Suite 106, Minneapolis, KS 67467.
Delaware County, Ohio and Incorporated Areas
Docket No.: FEMA-B-2249
City of Delaware | City Hall, 1 South Sandusky Street, Delaware, OH 43015.
City of Powell | City Office, 47 Hall Street, Powell, OH 43065.
Unincorporated Areas of Delaware County | Delaware County Building Regulations, 50 Channing Street, South Wing, Delaware, OH 43015.
Village of Ostrander | Village Offices, 19 South Main Street, Ostrander, OH 43061.
Marion County, Ohio and Incorporated Area
Docket No.: FEMA-B-2256
Unincorporated Areas of Marion County | Marion County Building, 222 West Center Street, Marion, OH 43302.
Village of Caledonia | Village of Caledonia Town Hall, 110 East Marion Street, Caledonia, OH 43314.
Marshall County, South Dakota and Incorporated Areas
Docket No.: FEMA-B-2264
City of Veblen | Veblen Municipal Building, 115 North Flick Street, Veblen, SD 57270.
Sisseton Wahpeton Oyate Tribe | Sisseton Wahpeton Oyate Emergency Management Office, 12554 BIA Highway 711, Agency Village, SD 57262.
Town of Langford | City Finance Office, 306 Main Street, Langford, SD 57454.
Unincorporated Areas of Marshall County | Marshall County Courthouse, 911 Vander Horck Street, Britton, SD 57430.

[FR Doc. 2023-15878 Filed 7-26-23; 8:45 am]

BILLING CODE 9110-12-P